DEPARTMENT OF THE INTERIOR

Fish and Wildlife Service

[FWS-R4-R-2012-N108: FXRS12650400000S3-123-FF04R02000]

Desecheo National Wildlife Refuge, PR; Draft Comprehensive Conservation Plan and Environmental Assessment

AGENCY: Fish and Wildlife Service, Interior.

ACTION: Notice of availability, request for comments.

SUMMARY: We, the Fish and Wildlife Service (Service) announce the availability of a draft comprehensive conservation plan and environmental assessment (Draft CCP/EA) for the Desecheo National Wildlife Refuge (NWR) in the municipality of Mayagüez, Puerto Rico, for public review and comment. In this Draft CCP/EA, we describe the alternative we propose to use to manage this refuge for the 15 years following approval of the final CCP.

DATES: To ensure consideration, we must receive your written comments by August 10, 2012.

ADDRESSES: You may obtain a copy of the Draft CCP/EA by contacting Ms. Susan Silander, via U.S. mail at P.O. Box 510, Boquerón, PR 00622. Alternatively, you may download the document from our Internet Site at http://southeast.fws.gov/planning under “Draft Documents.” Comments on the Draft CCP/EA may be submitted to the above postal address or by email to susan_silander@fws.gov.

FOR FURTHER INFORMATION CONTACT: Ms. Susan Silander at 787/851-7258 (telephone).

SUPPLEMENTARY INFORMATION:

Introduction

Desecheo NWR is a 360-acre island located in the Mona Passage, approximately 12 miles west of Rincón, Puerto Rico. With this notice, we continue the CCP process for Desecheo NWR. We started the process through a notice in the Federal Register on December 19, 2008 (73 FR 77828). For more about the refuge and our CCP process, please see that notice.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Issues

During the development of the Draft CCP/EA, we identified issues that we felt were most significant to the refuge and the public. These issues included: (1) Control of introduced species (e.g., monkeys, goats, rats, and plants); (2) illegal activities (e.g., smuggling of aliens and drugs and poaching); (3) cleanup of military ordnance; (4) restoration of habitat; (5) potential for opening the refuge to limited public uses and development of ecotourism projects; (6) providing boat access; (7) coordinating activities with Marine Reserve planning efforts; (8) permitting periodic access for ham radio operators; and (9) camping.

CCP Alternatives, Including Our Proposed Alternative

We developed three alternatives for managing the refuge (Alternatives A, B, and C), with Alternative C as our proposed alternative. A full description of each alternative is in the Draft CCP/EA. We summarize each alternative below.

Alternative A: Current Management (No Action)

We would continue with periodic surveys and management of seabirds and endemic reptiles, sea turtles, migratory landbirds, and the federally threatened Higo Chumbo cactus.

Removal of invasive animal species would also continue, and we would begin the monitoring of 10 established vegetation plots to evaluate success of forest restoration. There would be no active monitoring of climate change.

We would continue cooperation with partnering agencies to provide surveillance and enforcement that protects refuge resources from illegal activities, such as poaching and drug trafficking.

Environmental education and interpretation would continue through the refuge Web site and factsheets, and staff would continue to give presentations to mainland communities and local schools.

We would continue to work with cooperating agencies and partners to clean up unexploded ordnance to increase safety on the refuge. For the foreseeable future, the refuge would continue to be closed to protect the public from this hazard. No staff would be specifically assigned to the refuge, and it would continue to be managed from Complex headquarters in Boquerón, Puerto Rico.

Alternative B: Public Use Emphasis

We would continue periodic efforts to survey and manage seabirds and endemic reptiles. We would also continue opportunistic surveys for hawksbill turtles, migratory landbirds, and the federally threatened Higo Chumbo cactus.

We would continue our efforts to remove invasive animal species and would implement efforts to avoid introduction of new invasive species from increased public visitation. We would begin to monitor 10 established vegetation plots across the island to determine the success of restoration efforts. As with Alternative A, there would be no active monitoring of climate change.

We would continue cooperating with partnering agencies to provide surveillance and enforcement to protect refuge resources from illegal activities, such as poaching and drug trafficking.

Under this alternative, we would increase the level of off-site environmental education and outreach opportunities to mainland communities and schools. We would provide additional interpretive materials, such as brochures and fact sheets. Subject to safety concerns, we would provide on-site interpretive materials and opportunities for wildlife observation and photography. We would also allow for appropriate and compatible non-wildlife-dependent uses on the refuge by means of special use permits.

As portions of the refuge are cleared of unexploded ordnance and as other safety issues are addressed, appropriate sites might be opened to the public. We would acquire an open-water boat capable of reaching the island to provide for extended visits. This alternative would add a half-time public use or park ranger position to the refuge.

Alternative C: Habitat and Wildlife Restoration and Limited Public Use (Proposed Alternative)

Over the 15-year life of the CCP, we would provide the conditions for reestablishment of nesting seabird colonies. Routine monitoring and life-history studies of terrestrial reptiles would be conducted and habitat improvements would be made. We would continue periodic surveys of turtles and implement seasonal surveys of migratory landbirds. We would pursue opportunities for propagation, reintroduction, and removal of threats to the Higo Chumbo cactus.

We would increase monitoring and, if necessary, efforts to remove invasive species. The number of vegetation plots and frequency of monitoring would be increased to improve restoration efforts. Over the 15-year life of the CCP, we would complete the removal of all invasive animal species. We would also develop and implement a plan for monitoring and mitigating the effects of climate change on the refuge.

Under this alternative, the levels of surveillance and enforcement with partners would be increased, and we would also provide additional equipment to improve enforcement capabilities on the refuge.

We would increase off-site environmental education and outreach to mainland communities and schools, and we would increase the availability of interpretive materials, such as brochures and fact sheets. Subject to safety concerns being met, we would increase on-site interpretation through signage and brochures and provide limited opportunities for refuge-guided wildlife observation and photography. We would continue to respond to special requests for non-wildlife-dependent uses that are appropriate and compatible.

We would continue to work with cooperating agencies and partners to increase safety on the refuge through the removal of unexploded ordnance. Safety would be ensured by only permitting controlled, refuge-guided activities in cleared areas. We would acquire an open-water boat capable of reaching the island to provide for extended visits.

This alternative would add a half-time public use or park ranger position and a half-time manager position to be shared with the Complex headquarters.

Next Step

After the comment period ends, we will analyze the comments and address them.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: May 16, 2012.
Mark J. Musaus,
Acting Regional Director.

[FR Doc. 2012-16891 Filed 7-10-12; 8:45 am]

BILLING CODE 4310-55-P